LEGAL SERVICES CORPORATION

Sunshine Act Meetings

TIME AND DATE: The Finance Committee and the Communications Subcommittee of the Institutional Advancement Committee of the Legal Services Corporation Board of Directors will meet virtually on June 23 and 24, 2025, respectively. The Finance Committee meeting will begin on June 23 at 1:00 p.m. Eastern Time and will continue until the conclusion of the Committee's agenda. On June 24, the Communications Subcommittee meeting will begin at 3:30 p.m. Eastern Time and will continue until the conclusion of the Committee's agenda.

PLACE: Public Notice of Virtual Meeting.

LSC will conduct the June 23 and June 24, 2025, meetings via videoconference. Unless otherwise noted herein, the LSC Board of Directors meeting will be open to public observation via LSC's YouTube channel: https://www.youtube.com/@LegalServicesCorp/streams.

STATUS: Open.

MATTERS TO BE CONSIDERED:

Monday, June 23, 2025—Finance Committee Meeting

1. Approval of Meeting Agenda

2. Discussion with LSC Management Regarding Recommendations for the Organization's Fiscal Year 2027 Budget Request

3. Discussion with Leadership from LSC's Office of Inspector General (OIG) Regarding the OIG's Fiscal Year 2027 Budget Request

4. Consider and Act on Other Business

5. Consider and Act on Adjournment of Meeting

Tuesday, June 24, 2025—Communications Subcommittee Meeting

1. Approval of Agenda

2. Communications and Social Media Update

3. Strategic Communications Response to FY2026 White House Budget

4. Consider and Act on Other Business

5. Consider and Act on Motion to Adjourn the Meeting

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: June 11, 2025.
Stefanie Davis,
Deputy General Counsel, Legal Services Corporation.

[FR Doc. 2025-10929 Filed 6-11-25; 4:15 pm]

BILLING CODE 7050-01-P